DEPARTMENT OF COMMERCE

National Oceanic and Atmospheric Administration

[RTID 0648-XC699]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Tuesday, February 7 through Thursday, February 9, 2023. For agenda details, see SUPPLEMENTARY INFORMATION.

ADDRESSES: This is an in-person meeting with a virtual option. The meeting will be held at The Hotel Washington (515 15th Street NW, Washington, DC 20004), telephone: (202) 661-2400. Webinar registration details will be available on the Council's website at https://www.mafmc.org/briefing/february-2023.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Tuesday, February 7, 2023

Executive Committee (Closed Session)

Ricks E Savage Award

Council Convenes

NOAA Fisheries Overview

(Janet Coit, Assistant Administrator, NOAA Fisheries)

Update from NOAA Fisheries Assistant Administrator

Monkfish (Framework Adjustment 13 & Research Set-Aside (RSA) Program)

(Dr. Rachel Feeney, New England Fishery Management Council (NEFMC))

Final action on 2023-2025 specifications and other measures with consideration of additional NEFMC Scientific and Statistical Committee (SSC) input on ABCs.

Monkfish RSA—revisit 2023-2024 RSA priorities

Squid Squad Update

(Kim Hyde and Anna Mercer, Northeast Fisheries Science Center (NEFSC))

Update on the ongoing work of the “Squid Squad”, a collaborative effort to continue advancing knowledge of the Illex Squid.

Illex Permit Action Follow-up

Review NOAA Fisheries response to Council letter

Consider initiating any related 2023 actions

Lessons Learned—Piloting an Automatic Jigging Machine in Southern New England Squid Fisheries (Longfin)

(Dr. David Bethoney, Commercial Fisheries Research Foundation)

Presentation on preliminary results, challenges faced, and lessons learned from this project

Wednesday, February 8, 2023

Highly Migratory Species (HMS) Update

(Randy Blankinship, Chief, Atlantic HMS Management Division, Office of Sustainable Fisheries, NOAA Fisheries)

Recent and ongoing management initiatives

Outcomes of the November 2022 International Commission for Conservation of Atlantic Tunas (ICCAT) meeting

Bluefish and Spiny Dogfish Research Track Assessments

(Russ Brown, Supervisory Research Fishery Biologist, NEFSC, NOAA Fisheries)

Overview of recently completed Track Assessments

Atlantic Large Whale Take Reduction Team

(Colleen Coogan, Protected Resources, NOAA Fisheries)

Update and potential impacts to Mid-Atlantic Fisheries

Financial Disclosure and Recusal Presentation

(John Almeida, General Counsel, NOAA Fisheries)

NOAA Guidance to Councils on Financial Disclosures and Voting Recusal

Atlantic Surfclam and Ocean Quahog Industry Presentation

(Roger Mann, Virginia Institute of Marine Science Site Director for SCEMFIS)

Presentation by SCEMFIS on survey examining the composition of surfclam and quahog in clam beds from Ocean City, MD to south of Hudson Canyon

Atlantic Surfclam and Ocean Quahog Species Separation Requirements Amendment

Review FMAT action plan for 2023 (i.e., next steps) for amendment development

Review additional solutions/measures suggested by the Advisory Panel

NEFSC Cost Survey for Commercial Fishing Business Presentation

(Samantha Werner, Economist, NOAA Fisheries)

Update on the 2023 Northeast Commercial Fishing Cost Survey

Marine Resource Education Program (MREP) Overview

(Liz Moore, Atlantic Region MREP Program Manager, Gulf of Maine Research Institute)

Overview of the goals and accomplishments of the MREP program

Northeast Trawl Advisory Panel Presentation

Overview and purpose of NTAP

Update on recent activities

Thursday, February 9, 2023

Business Session

Committee Reports (SSC); Executive Director's Report (Review and reappoint SSC membership); Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: January 18, 2023.
Rey Israel Marquez,
Acting Deputy Director, Office of Sustainable Fisheries, National Marine Fisheries Service.

[FR Doc. 2023-01183 Filed 1-20-23; 8:45 am]

BILLING CODE 3510-22-P